ENVIRONMENTAL PROTECTION AGENCY

[EPA-HQ-OAR-2013-0246; EPA-HQ-OAR-2006-0895; FRL—9815-7]

Agency Information Collection Activities: Proposed Collections; Request for Comment on Two Proposed Information Collection Requests (ICRs)

AGENCY: Environmental Protection Agency (EPA).

ACTION: Notice.

SUMMARY: The Environmental Protection Agency is planning to submit two information collection requests (ICRs), (see the item specific information provided in the text), to the Office of Management and Budget (OMB) for review and approval in accordance with the Paperwork Reduction Act (44 U.S.C. 3501 et seq.). Before doing so, EPA is soliciting public comments on specific aspects of the proposed information collection as described below. This is a proposed extension of both ICRs, which are currently approved through July 31, 2013 and October 31, 2013, as specified for each item in the text below. An Agency may not conduct or sponsor and a person is not required to respond to a collection of information unless it displays a currently valid OMB control number.

DATES: Comments must be submitted on or before July 22, 2013.

ADDRESSES: Submit your comments, referencing the Docket ID numbers provided for each item in the text, online using www.regulations.gov (our preferred method), by email to a-and-r-Docket@epa.gov or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Nydia Yanira Reyes-Morales, Environmental Protection Agency, 1200 Pennsylvania Avenue NW., Mail Code 6403J, Washington, DC 20460; telephone number: 202-343-9264; fax number: 202-343-2804; email address: reyes-morales.nydia@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Pursuant to section 3506(c)(2)(A) of the Paperwork Reduction Act, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

ICR #1: Information Requirements for New Marine Compression Ignition Engines at or Above 30 Liters per Cylinder (Revision to an Existing Package),” Expiring July 31, 2013. (EPA ICR No. 2345.03, OMB Control No. 2060-0641); Docket ID Number: EPA-HQ-OAR-2013-0246

Abstract: For this ICR, EPA is seeking a revision to an existing package with a three year extension. Title II of the Clean Air Act, (42 U.S.C. 7521 et seq.; CAA), charges the Environmental Protection Agency (EPA) with issuing certificates of conformity for those engines that comply with applicable emission standards. Such a certificate must be issued before engines may be legally introduced into commerce. Under this ICR, EPA collects information necessary to (1) issue certificates of compliance with emission statements, and (2) verify compliance with various programs and regulatory provisions pertaining to marine compression-ignition engines with a specific engine displacement at or above 30 liters per cylinder, also referred to as Category 3 engines. To apply for a certificate of conformity, manufacturers are required to submit descriptions of their planned production engines, including detailed descriptions of emission control systems and test data. This information is organized by “engine family” groups expected to have similar emission characteristics. There are recordkeeping requirements of up to eight years.

The Act also mandates EPA to verify that manufacturers have successfully translated their certified prototypes into mass produced engines, and that these engines comply with emission standards throughout their useful lives. Under the Production Line Testing Program (“PLT Program”), manufacturers of Category 3 engines are required to test each engine at the sea trial of the vessel in which the engine is installed or within the first 300 hours of operation, whichever comes first. This self-audit program allows manufacturers to monitor compliance and minimize the cost of correcting errors through early detection. In addition, owners and operators of marine vessels with Category 3 engines must record certain information and send minimal annual notifications to EPA to show that engine maintenance and adjustments have not caused engines to be noncompliant. From time to time, EPA may test in-use engines to verify compliance with emission standards throughout the marine engine's useful life and may ask for information about the engine family to be tested.

The information requested is collected by the Diesel Engine Compliance Center (DECC), Compliance Division (CD), Office of Transportation and Air Quality, Office of Air and Radiation, EPA. Besides DECC and CD, this information could be used by the Office of Enforcement and Compliance Assurance and the Department of Justice for enforcement purposes. Proprietary information is kept confidential in accordance with the Freedom of Information Act (FOIA), EPA regulations at 40 CFR Parts 2 and 1042.915, and class determinations issued by EPA's Office of General Counsel. Non-confidential business information may be disclosed as requested under FOIA. That information may be used by trade associations, environmental groups, and the public. Most of the information is collected in electronic format and stored in CD's databases.

Form Numbers: 5900-90 (Annual Production Report template); PLT reporting template. EPA is in the process of obtaining a form number for the PLT reporting template.

Respondents/affected entities: Respondents are manufacturers and owners or operators of marine compression-ignition engines above 30 liters per cylinder and the vessels in which those engines are installed. Respondents are within the following North American Industry Classification System (NAICS) codes: 333618 (Other Engine Equipment Manufacturing), 336611 (Manufacturers of Marine Vessels); 811310 (Engine Repair and Maintenance); 483 (Water transportation, freight and passenger).

Respondent's obligation to respond: Required to obtain or retain a benefit. Manufacturers must respond to this collection if they wish to sell and/or operate their Category 3 engines in the U.S., as prescribed by Section 206(a) of the CAA (42 U.S.C. 7521) and 40 CFR Part 1042. Certification reporting is mandatory (Section 206(a) of CAA (42 U.S.C. 7521) and 40 CFR Part 1042, Subpart C). PLT reporting is mandatory (Section 206(b)(1) of CAA and 40 CFR Part 1042, Subpart D).

Estimated number of respondents: 200 (total, including engine manufacturers, owners and operators).

Frequency of response: Quarterly, Annually, On Occasion, depending on the program.

Total estimated burden: 3,012 hours per year. Burden is defined at 5 CFR 1320.03(b)

Total estimated cost: Estimated total annual costs: $200,000 (per year), includes an estimated $65,155 annualized capital or maintenance and operational costs.

Changes in Estimates: To date, there are no changes in the total estimated respondent burden compared with the ICR currently approved by OMB. However, EPA is evaluating information that may lead to a change in the estimates. After EPA has evaluated this information, burden estimates may slightly decrease due to the fact that EPA has received fewer applications for certification of Category 3 engine families than previously estimated. Cost estimates may increase due to inflation and labor rate changes.

ICR#2 Engine Emission Defect Information Reports and Voluntary Emission Recall Reports (Revision to an Existing Package),” Expiring October 31, 2013; EPA ICR No. 0282.15, OMB Control No. 2060-0048; Docket ID Number: EPA-HQ-OAR-2006-0895

Abstract: For this ICR, EPA is seeking a revision to an existing package with a three year extension. Under the provisions of the Clean Air Act (CAA), EPA is required to promulgate regulations to control emissions of air pollutants from motor vehicles and nonroad engines, as defined in the CAA. Per Sections 207(d)(1) and 213 of the CAA, when a substantial number of properly maintained and used engines produced by the same manufacturer do not conform to emission requirements, the manufacturer is required to recall the engines. When emission-related defects are found on a number of engines of the same model year and that defect may cause the engine emissions to exceed the standards, the engine manufacturer is required to submit an Emission Defect Information Report (EDIR). EDIRs allow EPA to target potentially nonconforming classes of engines for future testing, to monitor compliance with applicable regulations and to order a recall, if necessary. Engine manufacturers can also initiate a recall voluntarily by submitting a Voluntary Emission Recall Report (VERR). VERRs and VERR updates allow EPA to determine whether the manufacturer conducting the recall is acting in accordance with the CAA and to monitor the effectiveness of the recall campaign.

The information requested is collected by the Diesel Engine Compliance Center (DECC), Compliance Division (CD), Office of Transportation and Air Quality, Office of Air and Radiation, EPA. Besides DECC and CD, this information could be used by the Office of Enforcement and Compliance Assurance and the Department of Justice for enforcement purposes. Proprietary information is kept confidential in accordance with the Freedom of Information Act (FOIA), EPA regulations at 40 CFR Parts 2, and class determinations issued by EPA's Office of General Counsel. Non-confidential business information may be disclosed as requested under FOIA. That information may used by trade associations, environmental groups, and the public.

Form Numbers: Emissions Defect Information Report Form; Voluntary Emissions Recall Report Form; and Quarterly Recall Report Form. EPA is in the process of obtaining form numbers for these three forms.

Respondents/affected entities: Entities potentially affected by this action are manufacturers of on-highway heavy-duty engines, nonroad engines, fuel system components, marine engines, recreational vehicles, locomotives and locomotive engines.

Respondent's obligation to respond: Per sections 207(c)(1) and 213 of the Clean Air Act (CAA), engine manufacturers must submit EDIRs once a certain threshold is met. The threshold varies according to the type of engine and the part under which it is regulated. VERRs are submitted voluntary.

Estimated number of respondents: 40 (total).

Frequency of response: EDIRs and VERRs are submitted on occasion, whereas VERR updates are submitted quarterly by some respondents.

Total estimated burden: 15,084 hours (per year). Burden is defined at 5 CFR 1320.03(b).

Total estimated cost: $1,187,132 (per year), includes $9,800 annualized capital or operation & maintenance costs.

Changes in Estimates: To date, there is a decrease of 11,479 hours in the total estimated respondent burden compared with the ICR currently approved by OMB. However, EPA is evaluating information that may lead to a change in this estimate. The expected decrease is due to the fact that EPA has received far fewer EDIRs and VERRS than previously expected.

Dated: May 13, 2013.
Byron J. Bunker,
Director, Compliance Division, Office of Transportation and Air Quality, Office of Air and Radiation.

[FR Doc. 2013-12096 Filed 5-20-13; 8:45 am]

BILLING CODE 6560-50-P